DEPARTMENT OF ENERGY

Federal Energy Regulatory Commission

[Docket Nos. ER99-2284-009, etc.]

AEE 2, L.L.C, et al.; Notice of Filing

March 12, 2009.

| Docket Nos.
AEE 2, L.L.C | ER99-2284-009
AES Creative Resources, L.P | ER99-1773-009
AES Eastern Energy, L.P | ER99-1761-005
Indianapolis Power & Light Company | ER00-1026-016
AES Ironwood, L.L.C | ER01-1315-005
AES Red Oak, L.L.C | ER01-2401-011
AES Huntington Beach, L.L.C | ER98-2184-014
AES Redondo Beach, L.L.C | ER98-2186-015
AES Placerita, Inc | ER00-33-011
Condon Wind Power, LLC | ER05-442-003
AES Alamitos, Inc | ER98-2185-014
Storm Lake Power Partners II, LLC | ER99-1228-007
Lake Benton Power Partners, LLC | ER97-2904-008
Mountain View Power Partners, LLC | ER01-751-010 ER01-751-012

Notice of Filing

Take notice that on February 25, 2009, AEE 2, L.L.C., AES Creative Resources, L.P., AES Eastern Energy, L.P., Indianapolis Power & Light Company, AES Ironwood, L.L.C., AES Red Oak, L.L.C., AES Huntington Beach, L.L.C., AES Redondo Beach, L.L.C., AES Placerita, Inc., Condon Wind Power, LLC, AES Alamitos, Inc., Storm Lake Power Partners II, LLC, Lake Benton Power Partners, LLC, and Mountain View Power Partners, LLC, filed supplemental information to their compliance filing.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible On-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 23, 2009.

Kimberly D. Bose,
Secretary.

[FR Doc. E9-6068 Filed 3-19-09; 8:45 am]

BILLING CODE